DEPARTMENT OF DEFENSE

Department of the Navy

Notice of Availability of Government-Owned Inventions; Available for Licensing

AGENCY: Department of the Navy; DoD.

ACTION: Notice.

SUMMARY: The Department of the Navy (DoN) announces the availability of the inventions listed below, assigned to the United States Government, as represented by the Secretary of the Navy, for domestic and foreign licensing by the Department of the Navy.

ADDRESSES: Requests for copies of the patents cited should be directed to Office of Counsel, Naval Surface Warfare Center Carderock Division, 9500 MacArthur Blvd., West Bethesda, MD 20817-5700.

FOR FURTHER INFORMATION CONTACT: Dr. Joseph Teter, Director, Technology Transfer Office, Naval Surface Warfare Center Carderock Division, Code 00T, 9500 MacArthur Blvd., West Bethesda, MD 20817-5700, telephone 301-227-4299.

SUPPLEMENTARY INFORMATION: The following patents are available for licensing: //U.S. Patent No. 9,783,321: RETRACTABLE VERTICAL FLOW-CONTROL DEVICE FOR TOPSIDE MITIGATION OF AIRWAKES OVER SHIP FLIGHT DECKS//U.S. Patent No. 9,822,040: PRESSURELESS SINTERING-BASED METHOD FOR MAKING A TWO-PHASE CERAMIC COMPOSITE BODY//U.S. Patent No. 9,858,527: ALGORITHMIC METHOD FOR MODELING HUMAN DECISION-MAKING//U.S. Patent No. 9,975,135: LIGHTWEIGHT APPARATUS FOR CAPTURING OVERSPRAY AND AIRBORNE PARTICULATES//U.S. Patent No. 10,024,579: SOLAR PANEL DEPLOYMENT SYSTEM//U.S. Patent No. 10,053,195: SHIPBOARD SIDE-MOUNTED EXTENDING ARTICULATED BOOM FOR FUELING AND MAINTENANCE OPERATIONS//

Authority: 35 U.S.C. 207, 37 CFR part 404

Dated: November 9, 2018.
Meredith Steingold Werner,
Commander, Judge Advocate General's Corps, U.S. Navy, Federal Register Liaison Officer.

[FR Doc. 2018-24903 Filed 11-14-18; 8:45 am]

BILLING CODE 3810-FF-P